DEPARTMENT OF LABOR

Office of the Secretary

Submission for OMB Review: Comment Request

December 9, 2009.

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov.

Interested parties are encouraged to send comments to the Office of Information and Regulatory Affairs, Attn: OMB Desk Officer for the Department of Labor—Employee Benefits Security Administration (EBSA), Office of Management and Budget, Room 10235, Washington, DC 20503, Telephone: 202-395-7316/Fax: 202-395-5806 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employee Benefits Security Administration.

Type of Review: Extension without change of a currently approved collection.

Title of Collection: PTE 2006-16 (Securities Lending by Employee Benefit Plans).

OMB Control Number: 1210-0065.

Affected Public: Private sector.

Estimated Number of Respondents: 100.

Total Estimated Annual Burden Hours: 191.

Total Estimated Annual Costs Burden (Excludes Hourly Wage Costs): $5,600.

Description: Prohibited Transaction Exemption (PTE) 2006-16 permits an employee benefit plan to lend securities to certain broker-dealers and banks and to make compensation arrangements for lending services provided by a plan fiduciary in connection with such securities loans. In the absence of this exemption, some aspects of these transactions might be prohibited under Section 406 of Employee Retirement Income Security Act of 1974 (ERISA). A plan fiduciary needs the collected information to meet its fiduciary obligation to participants and beneficiaries under ERISA section 404(a), which, among other things, require a fiduciary to discharge his duties respecting the plan solely in the interest of the plan's participants and beneficiaries and in a prudent fashion and to ensure the plan's security lending transactions qualify for exemptive relief. The Department uses the information to (1) ensure that the rights of participants and beneficiaries are protected, (2) effectively enforce the terms of the class exemption and (3) ensure user compliance. For additional information, see related notice published in the Federal Register on September 25, 2009 (Vol. 74, page 49022).

Darrin A. King,
Departmental Clearance Officer.

[FR Doc. E9-29765 Filed 12-14-09; 8:45 am]

BILLING CODE 4510-29-P